DEPARTMENT OF STATE

[Public Notice 8501]

Culturally Significant Objects Imported for Exhibition Determinations: “The Dead Sea Scrolls: Life and Faith in Ancient Times” Formerly Titled “The Dead Sea Scrolls: Life and Faith in Biblical Times”

ACTION: Notice, correction.

SUMMARY: On October 12, 2011, notice was published on page 63341 of the Federal Register (volume 76, number 197) of determinations made by the Department of State pertaining to the exhibition “The Dead Sea Scrolls: Life and Faith in Biblical Times.” The referenced notice was corrected on October 19, 2012, by a notice published on pages 64373-64374 of the Federal Register (volume 77, number 203) to change the exhibition name to “The Dead Sea Scrolls: Life and Faith in Ancient Times” and to include additional objects as part of the exhibition. The October 19, 2012, notice referenced above was corrected on March 15, 2013, by a notice published on page 16565 of the Federal Register (volume 78, number 51) to include an additional object as part of the exhibition. The March 15, 2013, notice referenced above was corrected on April 25, 2013, by a notice published on page 24462 of the Federal Register (volume 78, number 80) to include additional objects in the exhibition. Today's notice is being issued to include additional objects in the exhibition. Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000 (and, as appropriate, Delegation of Authority No. 257 of April 15, 2003), I hereby determine that the additional objects to be included in the exhibition “The Dead Sea Scrolls: Life and Faith in Ancient Times,” imported from abroad for temporary exhibition within the United States, are of cultural significance. The additional objects are imported pursuant to loan agreements with the foreign owner or custodian. I also determine that the exhibition or display of the additional exhibit objects at the Leonardo Museum, Salt Lake City, UT, from on or about November 23, 2013, until on or about April 27, 2014, and at possible additional exhibitions or venues yet to be determined, is in the national interest. I have ordered that Public Notice of these Determinations be published in the Federal Register.

FOR FURTHER INFORMATION CONTACT: For further information, including a list of the additional exhibit objects, contact Julie Simpson, Attorney-Adviser, Office of the Legal Adviser, U.S. Department of State (telephone: 202-632-6467). The mailing address is U.S. Department of State, SA-5, L/PD, Fifth Floor (Suite 5H03), Washington, DC 20522-0505.

Dated: October 11, 2013.
Evan M. Ryan,
Assistant Secretary, Bureau of Educational and Cultural Affairs, Department of State.

[FR Doc. 2013-24510 Filed 10-17-13; 8:45 am]

BILLING CODE 4710-05-P